SOCIAL SECURITY ADMINISTRATION

[Docket No. SSA-2020-0020]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2020-0020].

SSA submitted the information collections below to OMB for clearance. Your comments regarding these information collections would be most useful if OMB and SSA receive them 30 days from the date of this publication. To be sure we consider your comments, we must receive them no later than May 28, 2020. Individuals can obtain copies of the OMB clearance packages by writing to OR.Reports.Clearance@ssa.gov.

1. Agreement to Sell Property—20 CFR 416.1240-1245—0960-0127. Individuals or couples who are otherwise eligible for Supplemental Security Income (SSI) payments, but whose resources exceed the allowable limit, may receive conditional payments if they agree to dispose of the excess non-liquid resources and make repayments. SSA uses Form SSA-8060-U3 to document this agreement, and to ensure the individuals understand their obligations. Respondents are applicants for, and recipients of, SSI payments who will be disposing of excess non-liquid resources.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-8060-U3 | 20,000 | 1 | 10 | 3,333 | $22.50 * | 24 ** | $75,533 ***
* We based this figures on average U.S. citizen's hourly salary, as reported by Bureau of Labor Statistics data.
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

2. Requests for Self-Employment Information, Employee Information, and Employer Information—20 CFR 422.120—0960-0508. When SSA cannot identify Form W-2 wage data for an individual, we place the data in an earnings suspense file and contact the individual (and certain instances the employer) to obtain the correct information. If the respondent furnishes the name and Social Security Number (SSN) information that agrees with SSA's records, or provides information that resolves the discrepancy, SSA adds the reported earnings to the respondent's Social Security record. We use Forms SSA-L2765, SSA-L3365, and SSA-L4002 for this purpose. The respondents are self-employed individuals and employees whose name and SSN information do not agree with their employer's and SSA's records.

Type of Request: Revision of an OMB approved information collection.

Modality of completion | Number of respondents | Frequency of response | Average burden per response (minutes) | Estimated total annual burden (hours) | Average theoretical hourly cost amount (dollars) * | Average wait time in field office (minutes) ** | Total annual opportunity cost (dollars) ***
SSA-L2765 | 12,321 | 1 | 10 | 2,054 | $22.50 * | 24 ** | $46,755 ***
SSA-L3365 | 179,749 | 1 | 10 | 29,958 | 22.50 * | 24 ** | 674,595 ***
SSA-L4002 | 121,679 | 1 | 10 | 20,280 | 22.50 * | 24 ** | 456,840 ***
Totals | 313,749 |  |  | 52,292 |  |  | 1,178,190 ***
* We based this figures on average U.S. citizen's hourly salary, as reported by Bureau of Labor Statistics data.
** We based this figure on the average FY 2020 wait times for field offices, based on SSA's current management information data.
*** This figure does not represent actual costs that SSA is imposing on recipients of Social Security payments to complete this application; rather, these are theoretical opportunity costs for the additional time respondents will spend to complete the application. There is no actual charge to respondents to complete the application.

3. Supported Employment Demonstration (SED)—0960-0806. Sponsored by SSA, the SED builds on the success of the intervention designed for the Mental Health Treatment Study (MHTS) previously funded by SSA. The MHTS provides integrated mental health and vocational services to disability beneficiaries with mental illness. The SED offers the same services to individuals with mental illness who SSA denied Social Security disability benefits. SSA seeks to determine whether offering this evidence-based package of integrated vocational and mental health services to denied disability applicants fosters employment that leads to self-sufficiency, improved mental health and quality of life, and reduced demand for disability benefits. The SED uses a randomized controlled trial to compare the outcomes of two treatment groups, and a control group. Study participation spans 36 months beginning on the day following the date of randomization to one of the three study groups. The SED study population consists of individuals aged 18 to 50 who apply for disability benefits alleging a mental illness and the initial decision is a denial of benefits in the past 60 days. The SED will enroll up to 1,000 participants in each of the three study arms for a total of 3,000 participants: 40 participants in each of three study arms for the 20 urban sites equaling an n of 2,400 urban site participants; and 20 participants in each of three arms for the 10 rural sites equaling an n of 600 rural site participants. We randomly select and assign each enrolled participant to one of three study arms:

• Full-Service Treatment (n = 1,000). The multi-component service model from the MHTS comprises the Full-Service Treatment. At its core are an Individual Placement and Support (IPS) supported employment specialist and behavioral health specialist providing IPS supported employment services integrated with behavioral health care. Participants in the full-service treatment group will also receive the services of a Nurse Care Coordinator who coordinates Systematic Medication Management services, as well assistance with: Out-of-pocket expenses associated with prescription behavioral health medications; work-related expenses; and services and treatment not covered by the participant's health insurance.

• Basic-Service Treatment (n = 1,000). The Basic-Service Treatment model leaves intact IPS supported employment integrated with behavioral health services as the centerpiece of the intervention arm. The Basic-Service Treatment is essentially the Full-Service model without the services of the Nurse Care Coordinator, Systematic Medication Management, and the funds associated with out-of-pocket expenses for prescription behavioral health medications.

• Usual Services (n = 1,000). This study arm represents a control group against which the two treatment groups we can compare. Participants assigned to this group seek services as they normally would (or would not) in their community. However, at the time of randomization, each Usual Service participant will receive a comprehensive manual describing mental health and vocational services in their locale, along with state and national resources.

This study will test the two treatment conditions against each other and against the control group on multiple outcomes of policy interest to SSA. The key outcomes of interest include: (1) Employment; (2) earnings; (3) income; (4) mental status; (5) quality of life; (6) health services utilization; and (7) SSA disability benefit receipt and amount. SSA is also interested in the study take up rate (participation), knowing who enrolls (and who does not), and fidelity to evidence-based treatments, among other aspects of implementation. Data collection for the evaluation of the SED will consist of the following activities: Baseline in-person participant interviews; quarterly participant telephone interviews; receipt of SSA administrative record data; and collection of site-level program data. Evaluation team members will also conduct site visits involving:

(1) Pre-visit environmental scans in order to understand the local context in which SED services are embedded; (2) independent fidelity assessments in conjunction with those carried out by state Mental Health/Vocational Rehabilitation staff; (3) key informant interviews with the IPS specialist, the nurse care coordinator, the case manager, and facility director; (4) focus groups with participants in the Full-Service and Basic-Service Treatment groups; and (5) ethnographic data collection consisting of observations in the natural environment and person-centered interviews with participants and non-participants. The respondents are study participants and non-participants, family members, IPS specialists, nurse care coordinators, case managers, and facility directors.

Type of Request: Revision of an OMB-approved information collection.

Modality of completion | Number of respondents | Frequency of response | Number of responses | Average burden per response (minutes) | Estimated total annual burden (hours) | Average theoretical hourly cost amount (dollars) * | Total annual opportunity cost (dollars) **
Competency and CIDI Screener | 1,878 | 1 | 1,878 | 75 | 2,348 | $7.50 * | $17,610 **
Baseline Interview | 3,000 | 1 | 3,000 | 45 | 2,250 | 7.50 * | 16,875 **
Quarterly Interview (Quarters 1, 2, 3, 5, 6, 7, 9, 10, and 11) | 3,000 | 9 | 27,000 | 20 | 9,000 | 7.50 * | 67,500 **
Annual Interview (Quarters 4, 8, and 11) | 3,000 | 3 | 9,000 | 30 | 4,500 | 7.50 * | 33,750 **
Fidelity Assessment Participant Interview | 180 | 4 | 720 | 60 | 720 | 7.50 * | 5,400 **
Key Informant Interview | 120 | 4 | 480 | 60 | 480 | 17.22 * | 8,266 **
Participant Focus Groups | 600 | 2 | 1,200 | 60 | 1,200 | 7.50 * | 9,000 **
Person-Centered Interview | 180 | 4 | 720 | 60 | 720 | 7.50 * | 5,400 **
Totals | 11,958 |  | 43,998 |  | 21,218 |  | 163,801 **
* We based these figures on average hourly wage for disabled workers and social and human service workers.
** This figure does not represent actual costs that SSA is imposing on recipients of Social Security payments to complete this application; rather, these are theoretical opportunity costs for the additional time respondents will spend to complete the application. There is no actual charge to respondents to complete the application.

Dated: April 22, 2020.
Naomi Sipple,
Reports Clearance Officer, Social Security Administration.

[FR Doc. 2020-08927 Filed 4-27-20; 8:45 am]

BILLING CODE 4191-02-P